DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in the following locations: Cleveland, OH and San Francisco, CA. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before November 1, 2013.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation projects listed below. The actions on the projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Little Italy—University Circle Rapid Transit Station; Cleveland, OH. Project sponsor: Greater Cleveland Regional Transit Authority (GCRTA). Project description: The project consists of a new Little Italy—University Circle Rapid Transit Station with associated reconstruction of the Mayfield Road Rapid Transit Bridges. The station will be located on GCRTA's Red Line and will replace the current center platform station at East 120th/Euclid Avenue. Final agency actions: No use determination of Section 4(f) resources; Section 106 finding of no adverse effect; project-level air quality conformity, and Finding of No Significant Impact (FONSI), dated April 4, 2013. Supporting documentation: Environmental Assessment, dated February 2013.

2. Project name and location: Central Subway Project, San Francisco, CA. Project sponsor: San Francisco Municipal Transportation Authority (SFMTA). Project description: The Central Subway Project is a 1.7-mile light-rail line connecting the existing Third Street Light Rail Station at Fourth and King Streets north to an underground subway station in Chinatown at Stockton and Jackson Streets. SFMTA proposes to relocate the Tunnel Boring Machine retrieval and extraction site from Columbus Avenue in North Beach to 1731-1741 Powell Street (the Pagoda Theater). The Central Subway Project was previously the subject of a Record of Decision dated November 26, 2008. This notice only applies to the discrete actions taken by FTA at this time, as described below. Nothing in this notice affects FTA's previous decisions, or notice thereof, for this project. Final agency actions: FTA determination that neither a supplemental environmental impact statement nor a supplemental environmental assessment is necessary. Supporting documentation: Addendum to the Final Supplemental Environmental Impact Report/Supplemental Environmental Impact Statement, dated January 31, 2013, prepared by the City and County of San Francisco Planning Department pursuant to the California Environmental Quality Act and the environmental re-evaluation letter by SFMTA, dated April 17, 2013, and related documents evaluating any potential impacts.

Issued on: May 30, 2013.
Lucy Garliauskas,
Associate Administrator for Planning and Environment.

[FR Doc. 2013-13304 Filed 6-4-13; 8:45 am]

BILLING CODE P